COMMITTEE FOR PURCHASE FROM PEOPLE WHO ARE BLIND OR SEVERELY DISABLED

Correction of Notice

Correction of Notice of Information Collection To Be Submitted to the Office of Management and Budget (OMB) for Approval Under the Paperwork Reduction Act; Initial Certification:

On pages 5913 and 5914, FR Doc E9-2230, the Committee published and included as part of its information collection references to 41 CFR 51-4.2 Initial Certification.

This Notice of Information Collection correction replaces all references to 41 CFR 51-4.2 Initial Certification with 41 CFR 51-4.3 Annual Certification.

Barry S. Lineback,
Acting Director, Program Operations.

[FR Doc. E9-3142 Filed 2-12-09; 8:45 am]

BILLING CODE 6353-01-P